DEPARTMENT OF TRANSPORTATION

Federal Railroad Administration

Draft Bay Area to Central Valley High-Speed Train Programmatic Environmental Impact Report/Environmental Impact Statement

AGENCY: Federal Railroad Administration (FRA), U.S. Department of Transportation (DOT).

ACTION: Notice of extension of draft environmental impact statement comment period.

SUMMARY: On July 2, 2007, FRA approved for release and agency and public review the Draft Program Environmental Impact Report/Environmental Impact Statement (EIR/EIS) for the Bay Area to Central Valley portion of the California High Speed Rail Authority's (Authority) proposed High Speed Train Program for the State of California. FRA is the lead federal agency on the environmental review in accordance with the National Environmental Policy Act (NEPA) and the Authority is the project sponsor and lead agency for the California Environmental Quality Act review. In releasing the Draft Program EIR/EIS, FRA and the Authority established a 70-day public comment period that was scheduled to end on September 28, 2007. The public was notified of the 70-day comment period through a variety of avenues, including newspaper publications, information included on both agencies' Web sites, at public hearings held throughout the affected area, and through the U.S. Environmental Protection Agency's weekly Federal Register publication (72 FR 39808, July 20, 2007), which noted the availability of the Draft Program EIR/EIS, identified as EIS No. 20070303.

At its September 26, 2007 board meeting, the Authority considered a number of public requests to extend the comment period and decided to accept comments until noon on October 26, 2007. FRA agrees with the Authority that this extension will facilitate public participation and is extending the comment period for NEPA purposes to October 26, 2007 as well.

DATES: The comment period on the Draft Bay Area to Central Valley HST Program EIR/EIS is extended until October 26, 2007.

ADDRESSES: Comments may be submitted to the California High-Speed Rail Authority, EIR/EIS Comments, 925 L Street, Suite 1425, Sacramento, CA 95814.

FOR FURTHER INFORMATION CONTACT: For further information regarding the programmatic environmental review, please contact: Mr. Dan Leavitt, Deputy Director of the California High-Speed Rail Authority, 925 L Street, Suite 1425, Sacramento, CA 95814 (telephone 916-324-1541); or Mr. David Valenstein, Environmental Program Manager, Office of Passenger Programs, Federal Railroad Administration, 1120 Vermont Avenue (Mail Stop 20), Washington, DC 20590 (telephone 202-493-6368).

SUPPLEMENTARY INFORMATION: More information about the proposed HST system, the first-tier Program EIR/EIS addressing the HST system and the Draft Bay Area to Central Valley HST EIS are available at http://www.cahighspeedrail.ca.gov.

Issued in Washington, DC, on September 26, 2007.
Mark E. Yachmetz,
Associate Administrator for Railroad Development.

[FR Doc. 07-4854 Filed 9- 27-07; 1:10 pm]

BILLING CODE 4910-06-P